NATIONAL SCIENCE FOUNDATION

National Science Board

Sunshine Act Meeting

The National Science Board's Task Force on Administrative Burdens, pursuant to NSF regulations (45 CFR part 614), the National Science Foundation Act, as amended (42 U.S.C. 1862n-5), and the Government in the Sunshine Act (5 U.S.C. 552b), hereby gives notice in regard to the re-scheduling of a teleconference for the transaction of National Science Board business. This teleconference had originally been scheduled for January 30, 2014.

NEW DATE AND TIME: Tuesday, February 4, 2014, 5:00 p.m.-6:00 p.m. EST.

PREVIOUS DATE AND TIME: January 30, 2014 at 4:00 p.m.

SUBJECT MATTER: Task Force members will discuss a draft report and recommendations.

STATUS: Open.

This meeting will be held by teleconference. A public listening line will be available. Members of the public must contact the Board Office [call 703-292-7000 or send an email message to nationalsciencebrd@nsf.gov] for the public listening number. Please refer to the National Science Board Web site www.nsf.gov/nsb/notices for additional information and schedule updates. Point of contact for this meeting is Lisa Nichols or John Veysey.

Ann Bushmiller,
Senior Counsel to the National Science Board.

[FR Doc. 2014-02519 Filed 2-3-14; 11:15 am]

BILLING CODE 7555-01-P